DEPARTMENT OF LABOR

Employment and Training Administration

[TA-W-70,951]

AT&T Yellow Pages, Troy, MI; Notice of Termination of Investigation

Pursuant to Section 223 of the Trade Act of 1974, as amended, an investigation was initiated in response to a petition filed on June 4, 2009, filed by a State Workforce Office on behalf of workers of AT&T Yellow Pages, Troy, Michigan.

The State Workforce Official has chosen to withdraw the petition. Consequently, further investigation in this case would serve no purpose, and the investigation under this petition has been terminated.

Signed at Washington, DC this 24th day of June 2009.
Elliott S. Kushner,
Certifying Officer, Division of Trade Adjustment Assistance.

[FR Doc. E9-15764 Filed 7-2-09; 8:45 am]

BILLING CODE 4510-FN-P